DEPARTMENT OF COMMERCE

National Oceanic and Atmospheric Administration

[I.D. 080904A]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Aquaculture Advisory Panel (AP) to redraft the Generic Amendment Providing for Regulation of Offshore Marine Aquaculture in August 2004.

DATES: The Council's Aquaculture Advisory Panel will convene from 1 p.m. on August 25, 2004 and conclude no later than 3 p.m. on August 26, 2004 (see ADDRESSES for the meeting location).

ADDRESSES: The meeting will be held at the Saint Louis Hotel, 730 Rue Bienville, New Orleans, LA; telephone: 888-508-3980 (see DATES for the meeting date and time).

Copies of the discussion material for this meeting may be obtained by calling 813-228-2815.

Council address: Gulf of Mexico Fishery Management Council, 3018 U.S. Highway 301 North, Suite 1000, Tampa, FL 33619.

FOR FURTHER INFORMATION CONTACT: Wayne Swingle, Executive Director, Gulf of Mexico Fishery Management Council, 3018 U.S. Highway 301 North, Suite 1000, Tampa, FL 33619; telephone: 813-228-2815.

SUPPLEMENTARY INFORMATION: The AP consists largely of scientists with expertise in marine aquaculture. The AP will be redrafting the Generic Amendment Providing for Regulation of Offshore Marine Aquaculture (Amendment). The draft amendment contains scientific information on the culture of marine fish and on the environmental effects of such aquaculture. The amendment also contains many alternatives that could be used to regulate aquaculture by best management practices (BMP). The Council solicited public comment on the draft amendment in eight scoping hearings. The AP will consider these public recommendations in redrafting the amendment.

The Gulf of Mexico Fishery Management Council is one of eight regional fishery management councils that were established by the Magnuson-Stevens Fishery Conservation and Management Act of 1976. The Gulf of Mexico Fishery Management Council prepares fishery management plans that are designed to manage fishery resources in the U.S. Gulf of Mexico.

See ADDRESSES for copies of the discussion material for this meeting. Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is open to the public and is physically accessible to people with disabilities. Requests for sign language interpretation or other auxiliary aids should be directed to Dawn Aring at the Council (see ADDRESSES) by August 13, 2004.

Dated: August 9, 2004.
Alan D. Risenhoover,
Acting Director, Office of Sustainable Fisheries, National Marine Fisheries Service.

[FR Doc. E4-1783 Filed 8-11-04; 8:45 am]

BILLING CODE